DEPARTMENT OF VETERANS AFFAIRS

[OMB Control No. 2900-0757]

Agency Information Collection Activity Under OMB Review: Supportive Services for Veteran Families (SSVF) Program—Grant Application, Survey and Report

AGENCY: Veterans Health Administration, Department of Veterans Affairs.

ACTION: Notice.

SUMMARY: In compliance with the Paperwork Reduction Act (PRA) of 1995, this notice announces that the Veterans Health Administration (VHA), Department of Veterans Affairs (VA), will submit the collection of information abstracted below to the Office of Management and Budget (OMB) for review and comment. The PRA submission describes the nature of the information collection and its expected cost and burden, and it includes the actual data collection instrument.

DATES: Comments and recommendations for the proposed information collection should be sent by February 21, 2025.

ADDRESSES: To submit comments and recommendations for the proposed information collection, please type the following link into your browser: www.reginfo.gov/public/do/PRAMain, select “Currently under Review—Open for Public Comments,” then search the list for the information collection by Title or “OMB Control No. 2900-0757.”

FOR FURTHER INFORMATION CONTACT: VA PRA information: Maribel Aponte, 202-461-8900, vacopaperworkreduact@va.gov.

SUPPLEMENTARY INFORMATION:

Title: Supportive Services for Veteran Families (SSVF) Program—Grant Application, Survey and Report (VA Forms 10-10072, 10-10072a, 10-10072b and 10-10072c).

OMB Control Number: 2900-0757. https://www.reginfo.gov/public/do/PRASearch.

Type of Review: Revision of a currently approved collection.

Abstract: Consistent with the Financial Assistance for Supportive Services Act (38 U.S.C. 2044), the purpose of the Supportive Services for Veteran Families (SSVF) Program is to provide supportive services grants to private non-profit organizations and consumer cooperatives who will coordinate or provide supportive services to very low-income veteran families who are residing in permanent housing, are homeless and scheduled to become residents of permanent housing within a specified time period, or after exiting permanent housing, are seeking other housing that is responsive to such very low-income veteran family needs and preferences. The following VA forms are included in this collection: 1. Application for Supportive Services Grants, VA Form 10-10072; 2. Participant Satisfaction Survey, VA Form 10-10072a; 3. Quarterly Grantee Performance Report, VA Form 10-10072b; and 4. Renewal Application, VA Form 10-10072c. This collection has a reduction in the number of responses and burden hours because the SSVF program no longer requires a pre-service survey, but SSVF will continue to administer an exit Participant Satisfaction Survey.

An agency may not conduct or sponsor, and a person is not required to respond to a collection of information unless it displays a currently valid OMB control number. The Federal Register Notice with a 60-day comment period soliciting comments on this collection of information was published at 89 FR 89717, November 13, 2024.

Total Annual Burden: 22,693 hours.

Total Annual Responses: 13,230.

VA Form 10-10072

Affected Public: Individuals or Households.

Estimated Annual Burden: 14,000 hours.

Estimated Average Burden per Respondent: 2100 minutes.

Frequency of Response: Once annually.

Estimated Number of Respondents: 400.

VA Form 10-10072a

Affected Public: Individuals or Households.

Estimated Annual Burden: 2,813 hours.

Estimated Average Burden per Respondent: 15 minutes.

Frequency of Response: Once annually.

Estimated Number of Respondents: 11,250.

VA Form 10-10072b

Affected Public: Individuals or Households.

Estimated Annual Burden: 2,880 hours.

Estimated Average Burden per Respondent: 135 minutes.

Frequency of Response: Four times per year.

Estimated Number of Respondents: 320.

VA Form 10-10072c

Affected Public: Individuals or Households.

Estimated Annual Burden: 3,000 hours.

Estimated Average Burden per Respondent: 600 minutes.

Frequency of Response: Once annually.

Estimated Number of Respondents: 300.

Authority: 44 U.S.C. 3501 et seq.

Maribel Aponte,
VA PRA Clearance Officer, Office of Enterprise and Integration, Data Governance Analytics, Department of Veterans Affairs.

[FR Doc. 2025-01423 Filed 1-21-25; 8:45 am]

BILLING CODE 8320-01-P